DEPARTMENT OF ENERGY

Federal Energy Regulatory Commission

[Docket No. RP00-253-000]

Columbia Gas Transmission Corporation; Notice of Refund Report

April 25, 2000.

Take notice that on April 19, 2000, Columbia Gas Transmission Corporation (Columbia) tendered for filing with the Commission its Refund Report on the flow back to customers on March 10, 2000, of $2,959.92 representing the time value of money associated with the deferred taxes applicable to certain lines and meters sold to Columbia Natural Resources, Inc. pursuant to Stipulation II, Article III, Section G(2) of Columbia's approved settlement in Docket No. RP95-408, et al. (see Columbia Gas Transmission Corp. 79 FERC ¶ 61,044 (1997)) Columbia credited its customers' invoices issued on March 10, 2000 or issued checks on that date.

Columbia states that a copy of this report is being provided to all recipients of a share of the flowback and all state commissions whose jurisdiction includes the location of any such recipient.

Any person desiring to be heard or to protest said filing should file a motion to intervene or a protest with the Federal Energy Regulatory Commission, 888 First Street, NE., Washington, DC 20426, in accordance with sections 385.214 or 385.211 of the Commission's rules and Regulations. All such motions or protests must be filed on or before May 2, 2000. Protests will be considered by the Commission in determining the appropriate action to be taken, but will not serve to make protestants parties to the proceeding. Any person wishing to become a party must file a motion to intervene. Copies of this filing are on file with the Commission and are available for public inspection in the Public Reference Room. This filing may be viewed on the web at http://www.ferc.fed.us/online/rims.htm (call 202-208-2222 for assistance).

Linwood A. Watson, Jr.,
Acting Secretary.

[FR Doc. 00-10721 Filed 4-28-00; 8:45 am]

BILLING CODE 6717-01-M